DEPARTMENT OF JUSTICE

Office of Justice Programs

Agency Information Collection Activities: Proposed Collection; Comments Requested

ACTION: 30-Day notice of information collection under review; OVC TTAC Feedback Form.

The Department of Justice, Office of Justice Programs, has submitted the following information collection request for review and clearance in accordance with the Paperwork Reduction Act of 1995. The Office of Management and Budget approval is being sought for the information collection listed below. This proposed information collection was previously published in the Federal Register Volume 69, Number 6, on page 1606 on January 9, 2004, allowing for a 60 day comment period.

The purpose of this notice is to allow for an additional 30 days for public comment until August 5, 2004. This process is conducted in accordance with 5 CFR 1320.10.

Written comments and/or suggestions regarding the items contained in this notice, especially the estimated public burden and associated response time, should be directed to Emily Martin, Acting Director, Technical Assistance, Publications, and Information Resources, Office for Victims of Crime, Office of Justice Programs, Department of Justice, 810 7th Street, NW., Washington, DC 20530.

Written comments and suggestions from the public and affected agencies concerning the proposed collection of information are encouraged. Your comments should address one or more of the following four points:

—Evaluate whether the proposed collection of information is necessary for the proper performance of the functions of the agency/component, including whether the information will have practical utility;

—Evaluate the accuracy of the agencies/components estimate of the burden of the proposed collection of information, including the validity of the methodology and assumptions used;

—Enhance the quality, utility, and clarity of the information to be collected; and

—Minimize the burden of the collection of information on those who are to respond, including the use of appropriate automated, electronic, mechanical, or other technological collection techniques or other forms of information technology, e.g., permitting electronic submission of responses.

Overview of this information collection:

(1) Type of Information Collection: Extension of a currently approved collection.

(2) Title of the Form/Collection: OVC TTAC Feedback Form Package.

(3) The Agency form number, if any, and the applicable component of the Department of Justice sponsoring the collection: Form Number(s): T-100, T-200, T-300, G-100, G-200, and G-300. Office for Victims of Crime, Office of Justice Programs, Department of Justice.

(4) Affected public who will be asked or required to respond, as well as a brief abstract. Primary: State, Local or Tribal. Other: Federal Government; Individuals or households; Not-for-profit institutions; Businesses or other for-profit. Abstract: The Office for Victims of Crime Training and Technical Assistance Center (OVC TTAC) Feedback Form Package is designed to collect the data necessary to continuously improve customer service intended to meet the needs of the victim service field. OVC TTAC will send these forms to technical assistance (TA) recipients to capture important feedback on the TA requester's satisfaction with the quality, efficiency, referrals, and resources of the OVC TTAC. The data will then be used to advise OVC TTAC on ways to improve the support that OVC TTAC provides to its users and the victim service field at-large.

(5) An estimate of the total number of respondents and the amount of time estimated for an average respondent to respond/reply: There are approximately 16,492 respondents who will each require an average of 3-10 minutes to respond to a single form.

(6) An estimate of the total public burden (in hours) associated with the collection: The total annual public burden hours for this information collection is estimated to be 1,561 hours.

If additional information is required contact: Brenda E. Dyer, Deputy Clearance Officer, United States Department of Justice, Planning and Policy Staff, Justice Management Division, 601 D Street, NW., Suite 1600, Washington, DC 20530.

Dated: June 30, 2004.
Brenda E. Dyer,
Department Deputy Clearance Officer, United States Department of Justice.

[FR Doc. 04-15217 Filed 7-2-04; 8:45 am]

BILLING CODE 4410-18-P